ENVIRONMENTAL PROTECTION AGENCY

[FRL-7234-1]

EPA Science Advisory Board Notification of Public Advisory Committee Meetings of the SAB Executive Committee and Clean Air Scientific Advisory Committee

Pursuant to the Federal Advisory Committee Act, Public Law 92-463, notice is hereby given that two committees of the US EPA Science Advisory Board (SAB) will meet on the dates and times noted below. All times noted are Eastern Time. All meetings are open to the public, however, seating is limited and available on a first come basis. Important Notice: Documents that are the subject of SAB reviews are normally available from the originating EPA office and are not available from the SAB Office—information concerning availability of documents from the relevant Program Office (if any) is included below.

1. Executive Committee of the EPA Science Advisory Board—July 16-17, 2002

The Executive Committee (EC) of the US EPA Science Advisory Board (SAB) will meet on Tuesday, July 16, 2002 and Wednesday, July 17, 2002 in Classroom C-113, 109 Alexander Drive, Research Triangle Park, NC. The meeting will begin by 9:15 am on July 16 and adjourn no later than 5:00 pm on July 17, 2002.

Purpose of the Meeting—This meeting of the SAB Executive Committee is one in a series of periodic meetings in which the EC takes action on reports generated by SAB Committees, meets with Agency leadership, and addresses a variety of issues germane to the operation of the Board. The agenda for the July 16-17, 2002 meeting will be posted on the SAB Web site (www.epa.gov/sab) not later than 5 days before the meeting and is likely to include, but not be limited to the following:

a. Action on one Committee report:

Long-Term Enhanced Surface Water Treatment Rule Proposal and Stage II Disinfection/Disinfectant By-Product Rule Proposal: An SAB Report from the Drinking Water Committee (DWC). (See 66 FR 56557, November 8, 2001 for further details.)

b. Meetings with Administration officials, including

(1) Ms. Linda Fisher, Deputy Administrator (tentative)

(2) Dr. Paul Gilman, Assistant Administrator, Office of Research and Development (tentative)

c. Matters of Board business, including discussion of the following:

(1) Activities of the SAB Policies and Procedures Subcommittee

(2) An update on Membership changes for FY2003

(3) The SAB Agenda for FY2003.

Availability of Review Materials—Draft SAB reports will be posted on the SAB Web site (www.epa.gov/sab) approximately 10 business days before the date of the meeting or as soon as available. The underlying documents that are the subject of SAB reviews, however, are not available from the SAB Office but are normally available from the originating EPA office (please see FR references above for details or background materials for each report under review by the EC).

Charge to the Executive Committee—In its review of SAB committee and Subcommittee reports, the Executive Committee will focus on the following questions:

(a) Has the SAB adequately responded to the questions posed in the Charge?

(b) Are the statements and/or responses in the draft report clear?

(c) Are there any errors of fact in the report?

In accord with the Federal Advisory Committee Act (FACA), the public and the Agency are invited to submit written comments on these three questions that are the focus of the review. Submissions should be received by Wednesday, July 10, 2002 by Ms. Diana Pozun, EPA Science Advisory Board, Mail Code 1400A, U.S. Environmental Protection Agency, 1200 Pennsylvania Ave., NW., Washington DC 20460. (Telephone (202) 564-4544, FAX (202) 501-0582; or via e-mail at pozun.diana@epa.gov). Submission by e-mail to Ms. Pozun will maximize the time available for review by the Executive Committee.

Although not required by FACA, the SAB will have a brief period available for applicable public comment. Therefore, anyone wishing to make oral comments on the three focus questions above, but that are not duplicative of the written comments, should contact the Designated Federal Officer for the Executive Committee, Mr. A. Robert Flaak (see contact information below) by noon Eastern Time on Wednesday, July 10, 2002.

For Further Information—Any member of the public wishing further information concerning this meeting or wishing to submit brief oral comments (10 minutes or less) must contact Mr. A. Robert Flaak, Acting Deputy Staff Director, EPA Science Advisory Board (1400A), U.S. Environmental Protection Agency, 1200 Pennsylvania Avenue, NW, Washington, DC 20460; telephone (202) 564-4546; FAX (202) 501-0852; or via e-mail at flaak.robert@epa.gov. Requests for oral comments must be in writing (e-mail, fax, or mail) and received by Mr. Flaak no later than noon Eastern Time on Wednesday, July 10, 2002.

2. Clean Air Scientific Advisory Committee (CASAC)—July 18-19, 2002

The Clean Air Scientific Advisory Committee (CASAC) of the US EPA Science Advisory Board (SAB) will meet on Thursday July 18 and Friday July 19, 2002. The meeting will begin at 9:15 am on July 18th and adjourn no later than 5:00 pm on July 19th and be held in EPA's Main Auditorium ( C 111), 109 Alexander Drive, Research Triangle Park, NC .

This meeting was pre-announced in 67 Federal Register 15802-15804, April 3, 2002.

Purpose of the Meeting—The CASAC Particulate Matter (PM) Review Panel will conduct a peer review of the EPA Air Quality Criteria for Particulate Matter (Third External Review Draft) prepared by EPA's National Center for Environmental Assessment (NCEA)

Availability of Review Materials—The review document, EPA Air Quality Criteria for information on the effects of airborne particulate matter (PM) on human health and welfare. To obtain a copy of the draft document, or to obtain further information concerning this document, please refer to 67 Federal Register 31303, May 9, 2002 for further details. The review document is not available from the EPA Science Advisory Board.

A draft meeting agenda will be available on the SAB Web site (www.epa.gov/sab) approximately two weeks prior to the meeting.

For Further Information—Any member of the public wishing further information concerning this meeting or wishing to submit brief oral comments must contact Mr. A. Robert Flaak, Acting Deputy Staff Director, EPA Science Advisory Board (1400A), U.S. Environmental Protection Agency, 1200 Pennsylvania Avenue, NW, Washington, DC 20460; telephone (202) 564-4546; FAX (202) 501-0852; or via e-mail at flaak.robert@epa.gov.

Written Comments—In accordance with the Federal Advisory Committee Act (FACA), the public is encouraged to submit written comments on the draft review document. Written comments must be received no later than Friday, July 12, 2002, preferably in electronic format (e-mail). Comments received after that date will be forwarded to the Committee, but will not be available for comment or discussion during the meeting. Written comments should be sent to Mr. Flaak at the above address.

Oral Comments—The SAB has allocated no more than three (3) hours during this meeting for applicable public comment. Requests for oral comments must be in writing (e-mail, fax, or mail) and received by Mr. Flaak no later than noon Eastern Time on Wednesday, July 10, 2002 in order to be included on the Agenda. The oral public comment period will be limited to three (3) hours divided among the speakers who register. Registration is on a first come basis, allowing at least five and no more than ten minutes per speaker or organization (depending on the number of registrants). Once registered, speakers may not give-up their time to other speakers. Speakers who are unable to register in time, may provide their comments in writing as noted above.

Providing Oral or Written Comments at SAB Meetings

It is the policy of the EPA Science Advisory Board to accept written public comments of any length, and to accommodate oral public comments whenever possible. The EPA Science Advisory Board expects that public statements presented at its meetings will not be repetitive of previously submitted oral or written statements. Oral Comments: In general, each individual or group requesting an oral presentation at a face-to-face meeting will be limited to a total time of ten minutes (unless otherwise indicated). For teleconference meetings, opportunities for oral comment will usually be limited to no more than three minutes per speaker and no more than fifteen minutes total. Deadlines for getting on the public speaker list for a meeting are given above. Speakers should bring at least 35 copies of their comments and presentation slides for distribution to the reviewers and public at the meeting. Written Comments: Although the SAB accepts written comments until the date of the meeting (unless otherwise stated), written comments should be received in the SAB Staff Office at least one week prior to the meeting date so that the comments may be made available to the committee for their consideration. Comments should be supplied to the appropriate DFO at the address/contact information noted above in the following formats: one hard copy with original signature, and one electronic copy via e-mail (acceptable file format: Adobe Acrobat, WordPerfect, Word, or Rich Text files (in IBM-PC/Windows 95/98 format). Those providing written comments and who attend the meeting are also asked to bring 35 copies of their comments for public distribution.

General Information—Additional information concerning the EPA Science Advisory Board, its structure, function, and composition, may be found on the SAB Web site (http://www.epa.gov/sab) and in The FY2001 Annual Report of the Staff Director which is available from the SAB Publications Staff at (202) 564-4533 or via fax at (202) 501-0256. Committee rosters, draft Agendas and meeting calendars are also located on our Web site.

Meeting Access—Individuals requiring special accommodation at this meeting, including wheelchair access to the conference room, should contact the appropriate DFO at least five business days prior to the meeting so that appropriate arrangements can be made.

Dated: June 12, 2002.
Vanessa T. Vu,
Director, EPA Science Advisory Board.

[FR Doc. 02-15460 Filed 6-18-02; 8:45 am]

BILLING CODE 6560-50-P